NUCLEAR REGULATORY COMMISSION

[Docket Nos. 50-336 and 50-423]

Northeast Nuclear Energy Company, et al.; Notice of Issuance of Amendments to Facility Operating Licenses and Final Determination of No Significant Hazards Consideration

The U.S. Nuclear Regulatory Commission (Commission) has issued Amendment Nos. 250 and 188 to Facility Operating License Nos. DPR-65 and NPF-49, issued to Northeast Nuclear Energy Company (NNECO), which revised the Technical Specifications (TSs) for operation of the Millstone Nuclear Power Station, Unit Nos. 2 and 3 located in New London, Connecticut. The amendment was effective as of the date of its issuance.

The amendments revise the TSs to relocate selected procedural details contained in the radiological effluent technical specifications (RETS) to the Radiological Effluent Monitoring and Offsite Dose Calculation Manual which is a licensee-controlled document. The relocation will be done in accordance with NRC guidance provided in: (1) Generic Letter 89-01, “Implementation of Programmatic Controls for Radiological Effluent Technical Specifications in the Administrative Controls Section of the Technical Specifications and the Relocation of Procedural Details of RETS to the Offsite Dose Calculation Manual or to the Process Control Program;” (2) NUREG-1431, “Standard Technical Specifications Westinghouse Plants;” and (3) NUREG-1432, “Standard Technical Specifications Combustion Engineering Plants.” In addition, several administrative changes to the TSs for Unit 2 are included.

The application for the amendments complies with the standards and requirements of the Atomic Energy Act of 1954, as amended (the Act), and the Commission's rules and regulations. The Commission has made appropriate findings as required by the Act and the Commission's rules and regulations in 10 CFR Chapter I, which are set forth in the license amendments.

Notice of Consideration of Issuance of Amendment and Proposed No Significant Hazards Consideration Determination and Opportunity for Hearing in connection with this action was published in the Federal Register on August 9, 2000, (65 FR 48754). A request for a hearing was filed on September 8, 2000, by the Connecticut Coalition Against Millstone and the STAR (Standing for Truth About Radiation) Foundation.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendments involve no significant hazards consideration. The basis for this determination is contained in the Safety Evaluation related to this action. Accordingly, as described above, the amendments have been issued and made immediately effective and any hearing will be held after issuance.

The Commission has determined that the amendments satisfy the criteria for categorical exclusion in accordance with 10 CFR 51.22. Therefore, pursuant to 10 CFR 51.22(b), no environmental impact statement or environmental assessment need be prepared for these amendments.

For further details with respect to this action see (1) the application for amendments dated February 22, 2000, as supplemented August 28, 2000, (2) Amendment Nos. 250 and 188 to Facility Operating License Nos. DPR-65 and NPF-49, and (3) the Commission's related Safety Evaluation. All of these items are available for public inspection at the Commission's Public Document Room, One White Flint North, 11555 Rockville Pike (first floor), Rockville, MD, and accessible electronically through the ADAMS Public Electronic Reading Room link at the NRC Web site (http://www.nrc.gov).

Dated at Rockville, Maryland, this 28th day of November 2000.
For the Nuclear Regulatory Commission.
James W. Clifford,
Chief, Section 2, Project Directorate I, Division of Licensing Project Management, Office of Nuclear Reactor Regulation.

[FR Doc. 00-30788 Filed 12-1-00; 8:45 am]

BILLING CODE 7590-01-P